CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95)(44 U.S.C. 3506(c)(2)(A)). This program helps to ensure that requested data can be provided in the desired format, reporting burden (time and financial resources) is minimized, collection instruments are clearly understood, and the impact of the collection requirement on respondents can be properly assessed.

Since 2003, the Spirit of Service awards has enabled the Corporation to recognize exceptional organizations and program participants from each of the Corporation's three programs: Senior Corps, AmeriCorps, and Learn and Serve. Prior to 2003, AmeriCorps recognized its outstanding members annually through the All-AmeriCorps Awards, which were initiated in 1999 and presented by President Clinton as part of the 5th anniversary celebration of the program. Senior Corps had recognized its outstanding projects and volunteers at its own national conference, and Learn and Serve America recognized exemplary programs and participants through its Leaders School selection and the President's Student Service Awards.

Currently, the Corporation is soliciting comments concerning the Spirit of Service Award nomination guidelines for the Corporate Award. This award is for people, companies, or organizations, who have a relationship with a grantee funded by the Corporation through Senior Corps, AmeriCorps, and/or Learn and Serve America and are nominated by a Corporation-sponsored grantee program.

Copies of the information collection requests can be obtained by contacting the office listed in the address section of this notice.

DATES: Written comments must be submitted to the individual and office listed in the ADDRESSES section by October 31, 2005.

ADDRESSES: You may submit comments, identified by the title of the information collection activity, by any of the following methods:

(1) By mail sent to: Corporation for National and Community Service, Office of Public Affairs; Attention David Premo, Public Affairs Associate, Room 10302E; 1201 New York Avenue, NW, Washington, DC, 20525.

(2) By hand delivery or by courier to the Corporation's mailroom at the 8th Floor at the mail address given in paragraph (1) above, between 9 a.m. and 4 p.m. Monday through Friday, except Federal holidays.

(3) By fax to: (202) 606-3460, Attention David Premo, Public Affairs Associate.

(4) Electronically through the Corporation's e-mail address system: dpremo@cns.gov.

FOR FURTHER INFORMATION CONTACT: David Premo, (202) 606-6717, or by e-mail at dpremo@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporate Spirit of Service Award nomination is completed by a Corporation grantee program representative (Senior Corps, AmeriCorps, and/or Learn and Serve America) to recognize people, companies or organizations that have made an exceptional contribution to their program. The application can be submitted electronically at http://www.NationalService.gov/SpiritofService or by my mail or overnight delivery or by hand delivery or by courier.

Current Action

The Corporation seeks to establish specific nomination guidelines for the Spirit of Service Corporate Award. This award will recognize people, companies, or organizations, that have made an exceptional contribution to a grantee program funded by the Corporation (Senior Corps, AmeriCorps, and/or Learn and Serve America).

Type of Review: New.

Agency: Corporation for National and Community Service.

Title: Spirit of Service Awards Nomination Guidelines and Application—Corporate.

OMB Number: None.

Agency Number: None.

Affected Public: Not-for-profit organizations, State, local and Tribal government, and other institutions supported by Senior Corps, AmeriCorps, and Learn and Serve America grants from the Corporation for National and Community Service.

Total Respondents: 200.

Frequency: Annual.

Average Time Per Response: 3 hours.

Estimated Total Burden Hours: 600 hours.

Total Burden Cost (capital/startup): None.

Total Burden Cost (operating/maintenance): None.

Comments submitted in response to this notice will be summarized and/or included in the request for Office of Management and Budget approval of the information collection request; they will also become a matter of public record.

Dated: August 26, 2005.
Sandy Scott,
Acting Director, Office of Public Affairs.

[FR Doc. 05-17391 Filed 8-31-05; 8:45 am]

BILLING CODE 6050-$$-P